DEPARTMENT OF EDUCATION

[Catalog of Federal Domestic Assistance Number: 84.423A]

Applications for New Awards; Supporting Effective Educator Development Program; Correction

AGENCY: Office of Innovation and Improvement, Department of Education.

ACTION: Notice; correction.

SUMMARY: On April 20, 2017, we published in the Federal Register a notice inviting applications for new awards (NIA) for fiscal year (FY) 2017 for the Supporting Effective Educator Development program. On May 8, 2017, we published in the Federal Register a notice extending the deadlines for transmittal of applications and intergovernmental review.

This notice of correction removes one of the selection criteria from the NIA and extends the deadlines for transmittal of applications and intergovernmental review. All other requirements and conditions stated in the notice inviting applications remain the same.

DATES:

Deadline for Transmittal of Applications: June 23, 2017.

Deadline for Intergovernmental Review: August 22, 2017.

FOR FURTHER INFORMATION CONTACT: Richard Wilson, U.S. Department of Education, 400 Maryland Avenue SW., Room 4W111, Washington, DC 20202-5960. Telephone: (202) 453-6709, or by email: SEED@ed.gov.

If you use a telecommunications device (TDD) for the deaf or a text telephone (TTY), call the Federal Relay Service, toll free, at 1-800-877-8339.

SUPPLEMENTARY INFORMATION: On April 20, 2017, we published, in the Federal Register (82 FR 18619), a notice inviting applications for new awards for FY 2017 for the SEED program. We are removing the fourth factor under the selection criterion for the Quality of the Management Plan. We are removing the fourth factor under the Quality of the Management Plan selection criterion because it was inadvertently duplicated. This factor is already listed under the Significance selection criterion and will remain under that criterion. With the removal of this factor, the Quality of Management Plan selection criterion will now have three factors by which it will be scored.

Due to the changes to the selection criteria, we are extending the deadlines for transmittal of applications and intergovernmental review to June 23, 2017 and August 22, 2017, respectively. This will ensure applicants have sufficient time to respond to the changes in their applications.

All other requirements and conditions stated in the NIA remain the same.

Corrections

In FR Doc. No. 2017-08042, in the Federal Register of April 20, 2017 (82 FR 18619), we make the following corrections:

(a) On page 18619, in the middle column, under the heading “Deadline for Transmittal of Applications” remove the words “June 19, 2017” and replace them with the words “June 23, 2017”.

(b) On page 18619, in the middle column, under the heading “Deadline for Intergovernmental Review,” remove the words “August 18, 2017” and replace them with the words “August 22, 2017”.

(c) On page 18625, in the first column, under the heading “Deadline for Transmittal of Applications,” remove the words “June 19, 2017” and replace them with the words “June 23, 2017”.

(d) On page 18625, in the middle column, under the heading “Deadline for Intergovernmental Review,” remove the words “August 18, 2017” and replace them with the words “August 22, 2017”.

(e) On page 18628, in the first column, remove the words “(4) The extent to which the results of the proposed project are to be disseminated in ways that will enable others to use the information or strategies.”

Program Authority: Section 2242 of the Elementary and Secondary Education Act of 1965, as amended by the Every Student Succeeds Act (20 U.S.C. 6672).

Accessible Format: Individuals with disabilities can obtain this document and a copy of the application package in an accessible format (e.g., braille, large print, audiotape, or compact disc) on request to the program contact person listed under FOR FURTHER INFORMATION CONTACT.

Electronic Access to This Document: The official version of this document is the document published in the Federal Register. Free internet access to the official edition of the Federal Register and the Code of Federal Regulations is available via the Federal Digital System at: www.gpo.gov/fdsys. At this site you can view this document, as well as all other documents of this Department published in the Federal Register, in text or Portable Document Format (PDF). To use PDF you must have Adobe Acrobat Reader, which is available free at the site.

You may also access documents of the Department published in the Federal Register by using the article search feature at: www.federalregister.gov. Specifically, through the advanced search feature at this site, you can limit your search to documents published by the Department.

Dated: May 23, 2017.
Margo Anderson,
Acting Assistant Deputy Secretary for Innovation and Improvement.

[FR Doc. 2017-10950 Filed 5-25-17; 8:45 am]

BILLING CODE 4000-01-P